DEPARTMENT OF AGRICULTURE

Forest Service

Tuolumne County Resource Advisory Committee

AGENCY: Forest Service, USDA.

ACTION: Notice of Meeting.

SUMMARY: The Tuolumne County Resource Advisory Committee will meet on August 11, 2003 at the City of Sonora Fire Department, in Sonora, California. The purpose of the meeting is to discuss the function of line officer concurrence in the project approval process; develop protocol for committee members to avoid conflicts of interest when voting on proposed projects; update on Forest Service's California RAC conference; update on Tuolumne County Staff Title II funding recommendations; and voting on proposed projects.

DATES: The meeting will be held August 11, 2003, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (202) 532-3671; e-mail pkaunert@fs.fed.us.

SUPPLEMENTARY INFORMATION: Agenda items to be covered include: (1) Discuss the function of line officer concurrence in the project approval process; (2) Develop protocol for committee members to avoid conflicts of interest when voting on proposed projects; (3) Provide update on Forest Service's California RAC conference; (4) Provide update on Tuolumne County Staff Title II funding recommendations; (5) Vote on proposed projects; (6) Public comment on meeting proceedings. This meeting is open to the public.

Dated: July 23, 2003.
Tom Quinn,
Forest Supervisor.

[FR Doc. 03-19311 Filed 7-29-03; 8:45 am]

BILLING CODE 3410-ED-M